DEPARTMENT OF ENERGY

Federal Energy Regulatory Commission

[Docket No. RP03-299-003]

Dominion Cove Point LNG, LP.; Notice of Compliance Filing

May 23, 2003.

Take notice that on May 20, 2003, Dominion Cove Point LNG, LP (Dominion Cove Point) tendered for filing as part of its FERC Gas Tariff, Original Volume No. 1, First Revised Original Sheet No. 10, with an effective date of May 1, 2003.

Dominion Cove Point states that on April 30, 2003, the Commission approved Dominion Cove Point's filing of its fuel retainage percentages as reflected on First Revised Second Revised Sheet No. 7 to Cove Point LNG, Limited Partnership's Second Revised Volume No. 1. Dominion Cove Point explains that its Original Volume No. 1 became effective May 1, 2002 as approved by the Commission's letter order on May 5, 2003. Dominion Cove Point states that in order to comply with the Commission's April 30, 2003 order adjusting the annual fuel retainage rates and incorporating the approved percentages in the new tariff, Dominion Cove Point is filing First Revised Original Sheet No. 10 in order to make the fuel retention rates effective on May 1, 2003.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.Protest Date: June 2, 2003.

Dated:
Magalie R. Salas,
Secretary.

[FR Doc. 03-13623 Filed 5-30-03; 8:45 am]

BILLING CODE 6717-01-P